DEPARTMENT OF HOMELAND SECURITY

Public Affairs; Submission for Emergency Processing for Ready for Kids Mascot Naming Contest

AGENCY: Public Affairs, DHS.

ACTION: Notice; request for comments.

SUMMARY: The Department of Homeland Security (DHS) will submit to OMB 1600-NEW information collection request (ICR) utilizing emergency review procedures, to the Office of Management and Budget (OMB) for review and clearance in accordance with the Paperwork Reduction Act of 1995. DHS is seeking OMB approval by August 30, 2004. A copy of this ICR, with the applicable supporting documentation, may be obtained by calling the Department of Homeland Security, Yvonne Pollard at 202-692-4221 (this is not a toll free number).

ADDRESSES: Written comments and/or suggestions for the items contained in this notice should be directed to the Office of Information and Regulatory Affairs, Attn: OMB Desk Officer for Homeland Security, Office of Management and Budget, Room 10235, Washington, DC 20503, at 202-395-7316.

FOR FURTHER INFORMATION CONTACT: Lara Shane at 202-282-8010 (this is not a toll free number).

SUPPLEMENTARY INFORMATION: This process is conducted in accordance with 5 CFR 1320.13. A copy of this ICR, with applicable supporting documentation, may be obtained by calling the Paperwork Reduction Contact listed. The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Public Affairs, Department of Homeland Security.

Title: Ready for Kids Mascot Naming Contest.

OMB Number: 1600-NEW.

Frequency: On occasion.

Affected Public: Individuals and households.

Estimated Number of Respondents: 500 respondents.

Estimated Time Per Respondent: 1.5 hour per response.

Total Burden Hours: 750.

Total Burden Cost: (Capital/Startup): none.

Total Burden Cost: (Operating/Maintaining): none.

Description: The Department of Homeland Security is launching an expansion of the Ready campaign, designed for children grades 4-8. The expansion of the Ready campaign is to conduct the “name the mascot” contest for naming the new Ready campaign mascot.

Dated: July 20, 2004.
Mark Emery,
Deputy Chief Information Officer.

[FR Doc. 04-16895 Filed 7-23-04; 8:45 am]

BILLING CODE 4410-10-P